SECURITIES AND EXCHANGE COMMISSION

[File No. 1-15161]

Issuer Delisting; Notice of Application To Withdraw From Listing and Registration; (3Dshopping.com, Common Stock, No Par Value, and Warrants To Purchase Common Stock)

January 30, 2001.

3Dshopping.com incorporated under the laws of California (“Company”), has filed an application with the Securities and Exchange Commission (“Commission”), pursuant to section 12(d) of the Securities Exchange Act of 1934 (“Act”) ¹ and Rule 12d2-2(d) thereunder,² to withdraw its Common Stock, no par value, and Warrants to Purchase Common Stock (referred to collectively herein as the “Securities”), from listing and registration on the American Stock Exchange (“Amex”).

¹ 15 U.S.C. 78l(d).

² 17 CFR 240.12d2-2(d).

After discussing with representatives of the Amex the Securities' eligibility to remain listed on the exchange in light of the Amex's continued listing maintenance requirements for listed securities, the Company has determined to withdraw the Securities from listing and registration on the Amex. The Company has indicated that it will pursue the possibility of having the Securities quoted in the unlisted over-the-counter market once they have ceased to trade on the Amex.

The Company has stated in its application that it has complied with the rules of the Amex governing the withdrawal of its Securities and that its application relates solely to the withdrawal of the Securities from listing and registration on the Amex and shall have no effect upon the Company's continued obligation to file reports with the Commission pursuant to Sections 12 and 13 of the Act.³

³ 15 U.S.C. 78l and 15 U.S.C. 78m.

Any interested person may, on or before February 21, 2001, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 01-2954 Filed 2-2-01; 8:45 am]

BILLING CODE 8010-01-M